DEPARTMENT OF ENERGY

Federal Energy Regulatory Commission

[Docket No. OR01-2-000, et al.]

Big West Oil Company, et al.; Electric Rate and Corporate Regulation Filings

January 8, 2001.

Take notice that the following filings have been made with the Commission:

1. Big West Oil Company v. Frontier Pipeline Company and Express Pipeline Partnership

[Docket No. OR01-2-000]

Take notice that on January 5, 2001, Big West Oil Company (Big West), tendered for filing a complaint against Frontier Pipeline Company (Frontier) and Express Pipeline Partnership (Express).

Big West states that it is a shipper of crude oil on tariffs filed by Frontier as well as on joint tariffs published by Frontier and Express for the shipment of crude petroleum between International Boundary, Canada and Salt Lake City, Utah. Big West further alleges that the rates being charged on the Frontier tariff and on the Frontier portion of the Frontier/Express joint tariffs are unjust and unreasonable and unduly discriminatory and unduly preferential, and therefore in violation of the Interstate Commerce Act.

Comment date: January 25, 2001, in accordance with Standard Paragraph E at the end of this notice. Answers to the complaint shall also be filed on or before January 25, 2001.

2. PSEG Power New York Inc.

[Docket No. ER01-643-001]

Take notice that on January 3, 2001, PSEG Power New York Inc. (PSEG Power New York), tendered for filing pursuant to Section 205 of the Federal Power Act (FPA), 16 U.S.C. § 824d (1994), and Part 35 of the Federal Energy Regulatory Commission's (Commission) Regulations, 18 CFR Part 35, an amended application for waiver of certain filing requirements associated with the production of electric capacity, energy and ancillary services generated at the Albany Steam Station by PSEG Power New York.

Comment date: January 24, 2001, in accordance with Standard Paragraph E at the end of this notice.

3. EWO Marketing, L.P.

[Docket No. ER01-666-001]

Take notice that on December 28, 2000, EWO Marketing, L.P., tendered for filing an amendment to its application for authorization to sell wholesale power at market-based rates pursuant to Section 205 of the Federal Power Act.

Copies of this filing have been served upon all parties listed on the official service list maintained by the Secretary of the Commission for these proceedings.

Comment date: January 18, 2001, in accordance with Standard Paragraph E at the end of this notice.

4. Axia Energy, L.P.

[Docket No. ER01-667-001]

Take notice that on December 28, 2000, Axia Energy, L.P., tendered for filing an amendment to its application for authorization to sell wholesale power at market-based rates pursuant to Section 205 of the Federal Power Act.

Comment date: January 18, 2001, in accordance with Standard Paragraph E at the end of this notice.

5. Illinois Power Company

[Docket No. ER00-3419-001]

Take notice that on January 4, 2001, Illinois Power Company (Illinois Power), 500 South 27th Street, Decatur, Illinois 65251-2200, tendered for filing with the Commission service agreement designations as required by Order No. 614.

Illinois Power requests a waiver of the 30-day filing requirement set forth in the Commission's order of October 18, 2000 in this proceeding.

Comment date: January 25, 2001, in accordance with Standard Paragraph E at the end of this notice.

6. Southwestern Electric Power Company

[Docket No. ER01-651-000]

Take notice that on January 3, 2001, Southwestern Electric Power Company (SWEPCO), tendered for filing an amendment to SWEPCO's December 12, 2000, filing in the above-captioned proceeding. The amendment contains the exhibits to the testimony of Samuel C. Hadaway, Exhibits SWP-2 through SWP-7. The exhibits were inadvertently omitted from the December 12, 2000 filing.

SWEPCO states that a copy of the amended filing has been served on the affected customers and on the Public Utility Commission of Texas, the Louisiana Public Service Commission and the Arkansas Public Service Commission.

Comment date: January 24, 2001, in accordance with Standard Paragraph E at the end of this notice.

7. United States Department of Energy, Bonneville Power Administration

[Docket No. EF01-2011-000]

Take notice that on January 5, 2001, the Bonneville Power Administration (BPA) tendered for filing a proposed rate adjustment to its Unauthorized Increase Charge (UAI) contained in the 1996 General Rate Schedule Provisions, pursuant to section 7(a)(2) of the Pacific Northwest Electric Power Planning and Conservation Act, 16 U.S.C. 839e(a)(2). BPA seeks interim approval of its proposed rates effective February 1, 2001, pursuant to Commission Regulation 300.20, 18 CFR 300.20. Pursuant to Commission Regulation 300.21, 18 CFR 300.21, BPA seeks interim approval and final confirmation of the proposed rates for the periods set forth in this notice.

BPA requests approval effective February 1, 2001, through September 30, 2001, for the proposed rate adjustment to its Unauthorized Increase Charge. BPA states that this approval is necessary for it to maintain the effectiveness of the penalty nature of the UAI Charge.

Comment date: January 22, 2001, in accordance with Standard Paragraph E at the end of this notice.

8. Delta Person Limited Partnership

[Docket No. ER01-138-001]

Take notice that on December 29, 2000, Delta Person Limited Partnership (Delta), tendered for filing its redesignated FERC Rate Schedule No. 1 in accordance with the Commission's letter order in the above-referenced docket.

Comment date: January 19, 2001, in accordance with Standard Paragraph E at the end of this notice.

9. Wisconsin Electric Power Company

[Docket No. ER01-848-000]

Take notice that on December 28, 2000, Wisconsin Electric Power Company (Wisconsin Electric), tendered for filing, pursuant to Section 35.12 of the Commission's regulations, 18 CFR 35.12, a Service Agreement with Wisconsin Public Power, Inc. (WPPI) pursuant to Wisconsin Electric's FERC Electric Tariff Second Revised Volume No. 2 for the provision of Dynamic Regulation and Frequency Response Service and Energy Imbalance Service to load served by WPPI and located within the historic, geographically-defined control areas operated by Wisconsin Power & Light Company and Wisconsin Public Service Corporation.

Comment date: January 19, 2001, in accordance with Standard Paragraph E at the end of this notice.

10. Wisconsin Electric Power Company

[Docket No. ER01-849-000]

Take notice that on December 28, 2000, Wisconsin Electric Power Company (Wisconsin Electric), tendered for filing, pursuant to Section 35.12 of the Commission's regulations, 18 CFR 35.12, a Wholesale Distribution Delivery Service Agreement between Wisconsin Electric and the City of Oconto Falls, Wisconsin (Oconto Falls) for the provision of wholesale distribution service to Oconto Falls beginning January 1, 2001.

Comment date: January 19, 2001, in accordance with Standard Paragraph E at the end of this notice.

11. Wisconsin Electric Power Company

[Docket No. ER01-850-000]

Take notice that on December 28, 2000, Wisconsin Electric Power Company (Wisconsin Electric), tendered for filing, pursuant to Section 35.12 of the Commission's Regulations, 18 CFR 35.12, a Wholesale Distribution Delivery Service Agreement between Wisconsin Electric and Wisconsin Public Power, Inc. (WPPI). The purpose of the agreement is to provide wholesale distribution service to five of WPPI's members—the City of Cedarburg, Wisconsin, the City of Lake Mills, Wisconsin, the City of Slinger, Wisconsin, the City of Waterloo, Wisconsin, and the City of New London, Wisconsin.

Comment date: January 19, 2001, in accordance with Standard Paragraph E at the end of this notice.

12. Northeast Utilities Service Company, Select Energy, Inc.

[Docket No. ER01-851-000]

Take notice that on December 29, 2000, Northeast Utilities Service Company (NUSCO) and Select Energy, Inc. (Select), tendered for filing under section 205 of the Federal Power Act four amendments to existing power supply agreements under which Holyoke Water Power Company (HWP) and Holyoke Power and Electric Company (HP&E) may sell electric power to Select, and purchase electric power from Select. Applicants state that the agreements extend the term of each power supply agreement by one additional year, to December 31, 2001.

The Applicants state that copies of this filing have been sent to HWP, HP&E, and Select.

Comment date: January 19, 2001, in accordance with Standard Paragraph E at the end of this notice.

13. Twelvepole Creek, LLC

[Docket No. ER01-852-000]

Take notice that on December 29, 2000, Twelvepole Creek, LLC, with an office located at c/o Orion Power Holdings, Inc., 7 E. Redwood Street, 10th Floor, Baltimore, Maryland 21202, which will own and operate a natural gas-fired electric generating facility to be constructed in Wayne County, West Virginia submitted for filing with the Federal Energy Regulatory Commission its initial FERC Electric Rate Schedule No. 1 which will enable Twelvepole Creek to engage in the sale of electric energy and capacity, and certain ancillary services at market-based rates.

Comment date: January 19, 2001, in accordance with Standard Paragraph E at the end of this notice.

14. New England Power Pool

[Docket No. ER01-853-000]

Take notice that on December 29, 2000, the New England Power Pool (NEPOOL), Participants Committee filed for acceptance material to permit NEPOOL to expand its membership to include Amerada Hess Corporation (AHC) and to terminate the membership of Hess Energy, Inc., (HEI).

NEPOOL requests a January 1, 2001 effective date for the commencement of AHC participation in and the termination of HEI from NEPOOL.

The Participants Committee states that copies of these materials were sent to the New England state governors and regulatory commission and the Participants in NEPOOL.

Comment date: January 19, 2001, in accordance with Standard Paragraph E at the end of this notice.

15. American Transmission Company LLC

[Docket No. ER01-854-000]

Take notice that on December 29, 2000, American Transmission Company LLC (ATCLLC), tendered for filing a Network Operating Agreement and Network Integration Transmission Service Agreement between ATCLLC and Wisconsin Public Service Corporation.

ATCLLC requests an effective date of January 1, 2001.

Comment date: January 19, 2001, in accordance with Standard Paragraph E at the end of this notice.

16. Wisconsin Electric Power Company, LLC

[Docket No. ER01-855-000]

Take notice that on December 29, 2000, Wisconsin Electric Power Company (Wisconsin Electric), tendered for filing a fully executed Coordinated Operating Agreement, dated December 22, 2000 between Wisconsin Electric and Consumers Energy Company.

Comment date: January 19, 2001, in accordance with Standard Paragraph E at the end of this notice.

17. Bangor Hydro Electric Company

[Docket No. ER01-856-000]

Take notice that on December 29, 2000, Bangor Hydro-Electric Company tendered for filing Notices of Cancellation of its FERC Electric Rate Schedules Nos. 7 (Eastern Maine Electric Cooperative, Inc.), 27 (Swan's Island Electric Cooperative), and 52 (Isle Au Haut Electric Power Company) to be effective March 1, 2001.

Copies of the filing were served upon the affected purchasers, Swan's Island Electric Cooperative, Eastern Maine Electric Cooperative, Inc., Isle Au Haut Electric Power Company, the Maine Public Utilities Commission, and Maine Public Advocate.

Comment date: January 19, 2001, in accordance with Standard Paragraph E at the end of this notice.

18. Allegheny Energy Service Corporation on behalf of Allegheny Energy Supply Company, LLC

[Docket No. ER01-857-000]

Take notice that on January 2, 2001, Allegheny Energy Service Corporation on behalf of Allegheny Energy Supply Company, LLC (Allegheny Energy Supply), tendered for filing Service Agreement No. 96 to add one (1) new Customer to the Market Rate Tariff under which Allegheny Energy Supply offers generation services.

Allegheny Energy Supply requests a waiver of notice requirements for an effective date of September 11, 2000 for Oglethorpe Power Corporation.

Copies of the filing have been provided to the Public Utilities Commission of Ohio, the Pennsylvania Public Utility Commission, the Maryland Public Service Commission, the Virginia State Corporation Commission, the West Virginia Public Service Commission, and all parties of record.

Comment date: January 23, 2001, in accordance with Standard Paragraph E at the end of this notice.

19. Commonwealth Edison Company

[Docket No. ER01-858-000]

Take notice that on December 29, 2000, Commonwealth Edison Company tendered for filing an Interconnection Agreement with Calpine Morris, LLC and Equistar Chemicals, LP to interconnect a 167 MW plant to the ComEd system at Morris, Illinois.

ComEd requests waiver of the prior notice requirements and an effective date of January 1, 2001.

Comment date: January 19, 2001, in accordance with Standard Paragraph E at the end of this notice.

20. Duke Energy Corporation

[Docket No. ER01-860-000]

Take notice that on December 29, 2000, Duke Energy Corporation (Duke), tendered for filing amendments to its May 2, 1997 Contract with the Southeastern Power Administration.

Duke requests that the amendments be made effective January 1, 2001.

Comment date: January 19, 2001, in accordance with Standard Paragraph E at the end of this notice.

21. PacifiCorp

[Docket No. ER01-861-000]

Take notice that on December 29, 2000, PacifiCorp tendered for filing in accordance with 18 CFR 35 of the Commission's Rules and Regulations, a Long-Term Firm Transmission Service Agreement with Bonneville Power Administration (Bonneville) under PacifiCorp's FERC Electric Tariff, Second Revised Volume No. 11 (Tariff).

Copies of this filing were supplied to the Washington Utilities and Transportation Commission and the Public Utility Commission of Oregon.

Comment date: January 19, 2001, in accordance with Standard Paragraph E at the end of this notice.

22. Alliant Energy Corporate Services, Inc.

[Docket No. ER01-865-000]

Take notice that on January 2, 2001, Alliant Energy Corporate Services, Inc., (Alliant Energy) on behalf of Wisconsin Power & Light (WPL) and Interstate Power Company (IPC) tendered for filing a Negotiated Capacity Transaction (Agreement) between WPL and IPC for the period January 1, 2001 through December 31, 2001. The Agreement was negotiated to provide service under the Alliant Energy System Coordination and Operating Agreement among IES Utilities Inc., Interstate Power Company, Wisconsin Power & Light Company and Alliant Energy.

Comment date: January 23, 2001, in accordance with Standard Paragraph E at the end of this notice.

23. Alliant Energy Corporate Services, Inc.

[Docket No. ER01-862-000]

Take notice that on January 2, 2001, Alliant Energy Corporate Services, Inc. (Alliant Energy) on behalf of Interstate Power Company (IPC) and Wisconsin Power & Light (WPL) tendered for filing a Negotiated Capacity Transaction (Agreement) between IPC and WPL for the period January 1, 2001 through December 31, 2001. The Agreement was negotiated to provide service under the Alliant Energy System Coordination and Operating Agreement among IES Utilities Inc., Interstate Power Company, Wisconsin Power & Light Company and Alliant Energy.

Comment date: January 23, 2001, in accordance with Standard Paragraph E at the end of this notice.

24. Alliant Energy Corporate Services, Inc.

[Docket No. ER01-863-000]

Take notice that on January 2, 2001, Alliant Energy Corporate Services, Inc. (Alliant Energy) on behalf of Wisconsin Power & Light (WPL) and IES Utilities Inc. (IESU), tendered for filing a Negotiated Capacity Transaction (Agreement) between WPL and IESU for the period January 1, 2001 through December 31, 2001. The Agreement was negotiated to provide service under the Alliant Energy System Coordination and Operating Agreement among IES Utilities Inc., Interstate Power Company, Wisconsin Power & Light Company and Alliant Energy.

Comment date: January 23, 2001, in accordance with Standard Paragraph E at the end of this notice.

25. Alliant Energy Corporate Services, Inc.

[Docket No. ER01-864-000]

Take notice that on January 2, 2001, Alliant Energy Corporate Services, Inc. (Alliant Energy) on behalf of Interstate Power Company (IPC) and Wisconsin Power & Light (WPL) tendered for filing a Negotiated Capacity Transaction (Agreement) between IPC and WPL for the period December 1, 2000] through March 31, 2001. The Agreement was negotiated to provide service under the Alliant Energy System Coordination and Operating Agreement among IES Utilities Inc., Interstate Power Company, Wisconsin Power & Light Company and Alliant Energy.

Comment date: January 23, 2001, in accordance with Standard Paragraph E at the end of this notice.

26. Citizens Communications Company

[Docket No. ER00-3211-001]

Take notice that on January 2, 2001, Citizens Communications Company in compliance with the Commission's August 17, 2000] letter order in this proceeding, tendered for filing revised tariffs and rate schedules to reflect its name change and other designation requirements of Order No. 614.

A copy of this filing was served on the service list in this Docket, and on each of Citizens Communications Company's wholesale customers. In addition, a copy is available for inspection at the offices of Citizens' Vermont Electric Division during regular business hours.

Comment date: January 23, 2001, in accordance with Standard Paragraph E at the end of this notice.

27. Lighthouse Energy Trading Company, Inc.

[[Docket No. ER01-174-001]

Take notice that on December 28, 2000, Lighthouse Energy Trading Company, Inc., a South Dakota Corporation (Lighthouse), tendered for filing an amended Rate Schedule FERC No. 1, in compliance with the Commission's Order No. 614.

Lighthouse intends to engage in wholesale electric power and energy purchases and sales as a marketer. Lighthouse is not in the business of generating or transmitting electric power.

Comment date: January 19, 2001, in accordance with Standard Paragraph E at the end of this notice.

28. Naniwa Energy LLC

[Docket No. ER01-457-001]

Take notice that on December 28, 2000, Naniwa Energy LLC tendered for filing an amendment to its initial rate filing in the above-captioned proceeding.

Comment date: January 19, 2001, in accordance with Standard Paragraph E at the end of this notice.

29. Consolidated Edison Company of New York, Inc.

[Docket No. ER01-478-001]

Take notice that on December 28, 2000, Consolidated Edison Company of New York, Inc. (Con Edison), tendered the conformed title page of the Indian Point 3 Interconnection Agreement, dated as of November 9, 2000, by and between Con Edison and Entergy Nuclear Indian Point 3, LLC, in the above-captioned

Comment date: January 19, 2001, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-1133 Filed 1-12-01; 8:45 am]

BILLING CODE 6717-01-P